ELECTION ASSISTANCE COMMISSION

Proposed Information Collection—2018 Election Administration and Voting Survey; Comment Request

AGENCY: U.S. Election Assistance Commission (EAC).

ACTION: Notice.

SUMMARY: In compliance with the Paperwork Reduction Act of 1995, the EAC announces an information collection and seeks public comment on the provisions thereof. The EAC intends to submit this proposed information collection (2018 Election Administration and Voting Survey) to the Director of the Office of Management and Budget for approval. The 2018 Election Administration and Voting Survey (Survey) asks election officials questions concerning voting and election administration. These questions request information concerning ballots cast; voter registration; overseas and military voting; Election Day activities; voting technology; and other important issues. The EAC issues the survey to meet its obligations under the Help America Vote Act to serve as national clearinghouse and resource for the compilation of information with respect to the administration of Federal elections; to fulfill both the EAC's and the Department of Defense Federal Voting Assistance Programs' (FVAP) quantitative State data collection requirements under the Uniformed and Overseas Citizens Absentee Voting Act (UOCAVA); and meet its National Voter Registration Act (NVRA) mandate to collect information from states concerning the impact of that statute on the administration of Federal Elections.

DATES: Written comments must be submitted on or before 5:00 p.m. EST on November 6, 2017.

ADDRESSES: Comments on the proposed information collection should be submitted electronically to electiondaysurvey@eac.gov. Written comments on the proposed information collection can also be sent to the U.S. Election Assistance Commission, 1335 East West Highway, Suite 4300, Silver Spring, MD 20910, Attn: Election Administration and Voting Survey.

Obtaining a Copy of the Survey: To obtain a free copy of the survey: (1) Email Sean Greene at the U.S. Election Assistance Commission at sgreene@eac.gov; or (2) write to the EAC (including your address and phone number) at U.S. Election Assistance Commission, 1335 East West Highway, Suite 4300, Silver Spring, MD 20910, Attn: Election Administration and Voting Survey.

FOR FURTHER INFORMATION CONTACT: Mr. Sean Greene at 301-563-3919, or email sgreene@eac.gov, U.S. Election Assistance Commission 1335 East West Highway, Suite 4300, Silver Spring, MD 20910.

SUPPLEMENTARY INFORMATION: Comments: Public comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

Needs and Uses

The EAC issues the survey to meet its obligations under the Help America Vote Act (HAVA) to serve as national clearinghouse and resource for the compilation of information with respect to the administration of Federal elections; to fulfill both the EAC and FVAP's data collection requirements under the UOCAVA; and meet its NVRA mandate to collect information from states concerning the impact of that statute on the administration of Federal Elections. HAVA requires the EAC to serve as a national clearinghouse and resource for the compilation of information and review of procedures with respect to the administration of Federal Elections. This includes the obligation to study and report on election activities, practices, policies, and procedures, such as methods of voter registration, methods of conducting provisional voting, poll worker recruitment and training, and such other matters as the Commission determines are appropriate. In addition, under the NVRA, the EAC is responsible for collecting information and reporting, biennially, to the United States Congress on the impact of that statute. The information the States are required to submit to the EAC for purposes of the NVRA report are found under Title 11 of the Code of Federal Regulations. States that respond to questions in this survey concerning voter registration related matters will meet their NVRA reporting requirements under 52 U.S.C. 20508 and EAC regulations. Finally, the UOCAVA mandates that the FVAP work with the EAC and State Chief Election officials to develop standards for reporting UOCAVA voting information (52 U.S.C. 20302) and that the FVAP will store the reported data and present the findings within the congressionally-mandated report to the President and Congress. Additionally, UOCAVA requires that “not later than 90 days after the date of each regularly scheduled general election for Federal office, each State and unit of local government which administered the election shall (through the State, in the case of a unit of local government) submit a report to the EAC on the combined number of absentee ballots transmitted to absent uniformed services voters and overseas voters for the election and the combined number of such ballots which were returned by such voters and cast in the election, and shall make such a report available to the general public.” States that complete and timely submit the UOCAVA section of the survey to the EAC will fulfill their UOCAVA reporting requirement under 52 U.S.C. 20302. In order to fulfill the above requirements, the EAC is seeking information relating to the period from the Federal general election day 2016 +1 through the November 2018 Federal general election. The EAC will provide the data regarding UOCAVA voting to FVAP after data collection is completed. This data sharing reduces burden on local election offices because FVAP does not have to conduct its own data collection to meet its reporting requirements.

Title and OMB Number: 2018 Election Administration and Voting Survey; OMB Number Pending.

Summary of the Collection of Information: The survey requests information on a state- and county-level (or township-, independent city-, borough-level, where applicable) concerning the following categories:

Voter Registration Applications (From the Period of Federal General Election Day +1, 2016 Through Federal General Election Day, 2018)

(a) Total number of registered voters;

(b) Number of active and inactive registered voters;

(c) Number of persons who registered to vote on Election Day—only applicable to States with Election Day registration;

(d) Number of voter registration applications received from all sources;

(e) Number of voter registration applications that were duplicates, invalid or rejected, new, changes of name, address, party, and not categorized;

(f) Total number of removal/confirmation notices mailed to voters and the reason for removal;

(g) total number of voters removed from the registration list or moved to the inactive registration list.

Uniformed and Overseas Citizens Absentee Voting Act (UOCAVA)

(a) Total number and type of registered and eligible UOCAVA voters;

(b) Total number of Federal Post Card Applications (FPCAs) received by type of voter;

(c) Total number of FPCAs rejected by type of voter;

(d) Total number of FPCAs rejected after the absentee ballot request deadline;

(e) Total number of UOCAVA absentee ballots transmitted by type of UOCAVA voter and mode of transmission;

(f) Total number of transmitted UOCAVA ballots returned by type of UOCAVA voter and mode of transmission;

(g) Total number of transmitted UOCAVA ballots counted by type of UOCAVA voter and mode of return;

(h) Total number of transmitted UOCAVA ballots rejected by type of UOCAVA voter and reason for rejection;

(i) Total number of FWABs received by type of voter;

(j) Total number of FWABs rejected by type of voter; and

(k) Total number of FWABs rejected by reason for rejection.

Domestic Civilian By-Mail Voting

(a) Total number of by-mail ballots transmitted to voters;

(b) Total number of ballots returned by voters;

(c) Total number of ballots counted; and

(d) Total number of ballots rejected, by reason for rejection.

Total Votes Cast and In-Person Voting

(a) Total number of votes cast in the election, as well as in-person on Election Day and during in-person early voting;

(b) Total number of precincts in the state/jurisdiction;

(c) Number of polling places available for early and Election Day voting in the November 2018 Federal general election;

(d) Number of poll workers used during early voting and during Election Day voting;

(e) The age of poll workers who worked in the election; and

(f) Extent to which jurisdictions had enough poll workers available for the general election.

Provisional Voting

(a) Number of provisional ballots cast, counted, and rejected; and

(b) Reasons for provisional ballot rejection.

Election Technologies

(a) Use of electronic and printed poll books during the 2018 Federal general election; and

(b) Type and number of voting equipment used for the 2018 Federal general election for precinct, absentee, early vote site, accessible to disabled voters, provisional voting.

Statutory Overview (2018 Federal General Election)

(a) Who answers the questions in each section of the EAVS;

(b) Description of the state's voter registration database system;

(c) Description of the types of electronic data connections the state has with various other government entities;

(d) Information on whether the state has online voter registration, automatic voter registration, and same day voter registration;

(e) Type of absentee voting and early voting regime the state has;

(f) Information on whether the state has vote centers;

(g) If the state accepts provisional ballots from voters registered in a different precinct;

(h) The type of election audit regime the state has;

(i) The type of voter identification regime the state has; and

(j) The voting eligibility requirements for individuals who have been convicted of a felony.

Affected Public (Respondents): State or local governments, the District of Columbia, Commonwealth of Puerto Rico, Guam, American Samoa, and the United States Virgin Islands.

Affected Public: State or local government.

Number of Respondents: 55.

Responses per Respondent: 1.

Estimated Burden per Response: 150 hours per collection, 75 hours annualized.

Estimated Total Annual Burden Hours: 8,250 hours per collection, 4,125 hours annualized.

Frequency: Biennially.

Bryan Whitener,
Director of National Clearinghouse on Elections, U.S. Election Assistance Commission.

[FR Doc. 2017-18876 Filed 9-5-17; 8:45 am]

BILLING CODE 4810-71-P